DEPARTMENT OF TRANSPORTATION

Federal Highway Administration

Environmental Impact Statement; Wiscasset and Edgecomb, ME

AGENCY: Federal Highway Administration (FHWA), DOT.

ACTION: Notice of intent; correction.

SUMMARY: The FHWA published a notice of intent in the Federal Register of July 29, 2002 concerning an environmental impact statement (EIS) to be prepared for a proposed highway project in the Towns of Wiscasset and Edgecomb, Maine. The county information is incorrectly listed; the correct county is Lincoln County, Maine.

FOR FURTHER INFORMATION CONTACT: Mr. Mark Hasselmann, Manager, Right of Way and Environment, Maine Division, Federal Highway Administration, 40 Western Ave. Augusta, Maine 04330, Tel. 207/622-8355, ext. 24; Edward W. Hanscom, P.E., Project Manager, Maine Department of Transportation, State House Station 16, Augusta, Maine 04333-0016, Tel. 207/624-3320.

Correction

In the Federal Register of July 29, 2002, in FR Doc. 02-19027 Filed 7-26-02; 8:45 am, on page 49056 under Summary, change “Sagadahoc County, Maine” to read “Lincoln County, Maine.”

Authority: 23 U.S.C. 315; 49 CFR 1.48.

Issued on: August 19, 2002.
Paul L. Lariviere,
Division Administrator, Federal Highway Administration, Augusta, Maine.

[FR Doc. 02-21615 Filed 8-23-02; 8:45 am]

BILLING CODE 4910-22-M